DEPARTMENT OF ENERGY

Federal Energy Regulatory Commission

Combined Notice of Filings

Take notice that the Commission has received the following Natural Gas Pipeline Rate and Refund Report filings:

Filings Instituting Proceedings

Docket Numbers: RP21-1039-000.

Applicants: B-R Pipeline, LLC.

Description: § 4(d) Rate Filing: B-R Pipeline, LLC Tariff Update—Name Change to be effective 8/20/2021.

Filed Date: 8/19/21.

Accession Number: 20210819-5108.

Comment Date: 5 p.m. ET 8/31/21.

Docket Numbers: RP21-1040-000.

Applicants: PPG Shawville Pipeline, LLC.

Description: § 4(d) Rate Filing: Normal Change in Rates and Forms 2021 to be effective 9/1/2020.

Filed Date: 8/19/21.

Accession Number: 20210819-5115.

Comment Date: 5 p.m. ET 8/31/21.

Docket Numbers: RP21-1041-000.

Applicants: Northern Natural Gas Company.

Description: Northern Natural Gas submits report of the penalty and daily delivery variance charge (DDVC) revenues that have been credited to shippers.

Filed Date: 8/19/21.

Accession Number: 20210819-5120.

Comment Date: 5 p.m. ET 8/31/21.

Docket Numbers: RP21-1042-000.

Applicants: Rover Pipeline LLC.

Description: § 4(d) Rate Filing: Revise Flow Through of Excess Cash Out Revenues or Costs to be effective 9/20/2021.

Filed Date: 8/20/21.

Accession Number: 20210820-5050.

Comment Date: 5 p.m. ET 9/1/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2021.
Kimberly D. Bose,
Secretary.

[FR Doc. 2021-18373 Filed 8-25-21; 8:45 am]

BILLING CODE 6717-01-P